DEPARTMENT OF THE INTERIOR

Fish and Wildlife Service

[FWS-R9-IA-2010-N144] [96200-1672-0005-7E]

Information Collection Sent to the Office of Management and Budget (OMB) for Approval; OMB Control Number 1018-0144; Wildlife Without Borders—Amphibians in Decline Grant Program

AGENCY: Fish and Wildlife Service, Interior.

ACTION: Notice; request for comments.

SUMMARY: We (Fish and Wildlife Service) have sent an Information Collection Request (ICR) to OMB for review and approval. We summarize the ICR below and describe the nature of the collection and the estimated burden and cost. This ICR is scheduled to expire on September 30, 2010. We may not conduct or sponsor and a person is not required to respond to a collection of information unless it displays a currently valid OMB control number. However, under OMB regulations, we may continue to conduct or sponsor this information collection while it is pending at OMB.

DATES: You must send comments on or before August 19, 2010.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0144.

Title: Wildlife Without Borders—Amphibians in Decline Grant Program.

Service Form Number(s): 3-2338B.

Type of Request: Extension of a currently approved collection.

Affected Public: Domestic and nondomestic Federal, State, and local governments; nonprofit, nongovernmental organizations; public and private institutions of higher education; and any other organization or individual with demonstrated experience deemed necessary to carry out the proposed project.

Respondent's Obligation: Required to obtain or retain a benefit.

Frequency of Collection: On occasion.

Activity | Number of annual respondents | Number of annual responses | Completion time per response | Annual burden hours
Applications | 40 | 40 | 12 hours | 480
Reports | 10 | 20 | 30 hours | 600
Totals | 50 | 60 |  | 1,080

Abstract: Section 8 of the Endangered Species Act (16 U.S.C. 1531-43) authorizes the establishment of the Wildlife Without Borders—Amphibians in Decline grant program to fund projects that conserve the world's rapidly declining amphibian species. This program will support activities that address threats to frogs, toads, salamanders, newts, and caecilians that face an unprecedented threat of extinction. Funding will be made available for conservation of species with native ranges in countries with the greatest need for conservation funding.

Applicants submit proposals for funding in response to a Notice of Funding Availability that we publish on Grants.gov and the program web page. Applications consist of:

(1) Cover page with basic project details (FWS Form 3-2338B).

(2) Project summary and narrative.

(3) Letter of appropriate government endorsement.

(4) Brief curricula vitae for key project personnel.

(5) Complete Standard Forms 424 and 424b (non-domestic applicants do not submit the standard forms).

Applications may also include, as appropriate, a copy of the organization's Negotiated Indirect Cost Rate Agreement (NIRCA) and any additional documentation supporting the proposed project.

All assistance awards under this program have a maximum reporting requirement of a:

(1) Mid-term report (performance report and a financial status report) due within 30 days of the conclusion of the first half of the project period, and

(2) Final report (performance and financial status report and copies of all deliverables, photographic documentation of the project and products resulting from the project) due within 90 days of the end of the performance period.

Comments: On April 14, 2010, we published in the Federal Register (75 FR 19420) a notice of our intent to request that OMB renew this information collection. In that notice, we solicited comments for 60 days, ending on June 14, 2010. We received three comments in response to that notice.

One commenter voiced opposition to spending tax dollars for this program. Another commenter supported the program and expressed interest in applying for a grant. The third commenter also expressed interest in applying for a grant. None of the commenters addressed the information collection requirements, and we did not make any changes to our collection. We sent a copy of the NOFA to each individual interested in applying.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: July 14, 2010.
Hope Grey,
Information Collection Clearance Officer, Fish and Wildlife Service.

[FR Doc. 2010-17632 Filed 7-19-10; 8:45 am]

BILLING CODE 4310-55-S